DEPARTMENT OF AGRICULTURE

Agricultural Marketing Service

[Doc. No. AMS-FGIS-20-0066]

United States Standards for Lentils

AGENCY: Agricultural Marketing Service, Agriculture (USDA).

ACTION: Notice of final action.

SUMMARY: This action is being taken under the authority of the Agricultural Marketing Act of 1946, as amended, (AMA). The United States Department of Agriculture's (USDA) Agricultural Marketing Service (AMS) is revising the method of interpretation for the determination of the special grade “Green” in the Pea and Lentil Inspection Handbook pertaining to the class “Lentils,” in the U.S. Standards for Lentils. Stakeholders in the lentil processing/handling industry requested that AMS amend the interpretation of the special grade “Green” in the Lentil inspection instructions by redefining the definition and including criteria for the inclusion of mottled lentils.

DATES: Applicability date: June 15, 2021.

FOR FURTHER INFORMATION CONTACT: Loren Almond, USDA AMS; Telephone: (816) 702-3925; Email: Loren.L.Almond@usda.gov.

SUPPLEMENTARY INFORMATION: Under the authority of the AMA (7 U.S.C. 1621-1627), as amended, AMS establishes and maintains a variety of quality and grade standards for agricultural commodities that serve as a fundamental starting point to define commodity quality in the domestic and global marketplace.

Standards developed under the AMA include those for rice, whole dry peas, split peas, feed peas, lentils, and beans. The U.S. Standards for whole dry peas, split peas, feed peas, lentils and beans no longer appear in the Code of Federal Regulations but are now maintained by USDA-AMS-Federal Grain Inspection Service (AMS-FGIS). The U.S. Standards for lentils are voluntary and widely used in private contracts, government procurement, marketing communication, and for some commodities, consumer information.

The lentil standards facilitate lentil marketing and define U.S. lentil quality in the domestic and global marketplace. The standards define commonly used industry terms; contain basic principles governing the application of standards, such as the type of sample used for a particular quality analysis; explain the basis of determination; and specify grades and grade requirements. Official procedures for determining grading factors are provided in the Pea and Lentil Inspection Handbook. Together, the grading standards and testing procedures allow buyers and sellers to communicate quality requirements, compare lentil quality using equivalent forms of measurement, and assist in price discovery.

AMS engages in outreach with stakeholders to ensure commodity standards maintain relevance to the modern market. Lentil industry stakeholders include the USA Dry Pea and Lentil Council (USADPLC), a national organization of producers, processors, and exporters of U.S. dry peas, lentils, and chickpeas; the U.S. Pea and Lentil Trade Association (USPLTA), a national association representing processors, traders, handlers and merchandisers, and transporters in the pea, lentil and chickpea industry; and, other handlers and merchandisers.

The United States Standards for Lentils and the official inspection procedures for lentils in the Pea and Lentil Handbook are available on the AMS public website. The United States Standards for Lentils were last revised in 2017 with the establishment of a new grading factor “wrinkled lentils,” and the new special grade of “Green” in lentils. With the current criteria, it is difficult to meet specifications due to the strict standards required to achieve the special grade “Green” in lentils. During meetings and discussions, lentil stakeholders communicated the need to revise the Standards and the Pea and Lentil Inspection Handbook by changing the definition of Green Lentils and the criteria to include a percentage of allowable mottled lentils in the lentil sample.

Revision of Special Grade “Green Lentils”

Stakeholders, including the USADPLC, recommended AMS revise the lentil criteria for the special grade “Green” in the class “Lentils.” Stakeholders stated most shipments of lentils did not achieve the special grade “Green” based on current criteria. AMS and stakeholders worked collaboratively to redefine the special grade “Green” in lentils to best reflect the special grade condition. Additionally, stakeholders endorsed the following definition: “Green Lentils. Clear seeded (green) lentils possessing a natural, uniformly green color.” The proposed inspection instruction in the Pea and Lentil Handbook is being modified from what appeared in the notice and request for comments, for greater clarity, to state: “The portion size of approximately 60 grams for small seeded lentils and 125 grams for large seeded lentils must contain less than 0.5 percent lentils with mottling and be free of any lentils of contrasting color, before the removal of defects, and must be equal to or better than depicted on the Interpretive Line Print after the removal of dockage.”

Comment Review

AMS published a Notice in the Federal Register on September 29, 2020 (85 FR 60956), inviting interested parties to comment on the proposed revisions to the United States Standards for Lentils. AMS received one comment strongly supporting the proposed revision. AMS received no comments opposing the proposed revision. AMS believes that these revisions will facilitate the marketing of lentils and better reflect current marketing practices. Accordingly, AMS is implementing the revisions as proposed. The revisions to the standards become effective upon publication in the Federal Register, and the Pea and Lentil Inspection Handbook will be revised to incorporate the revisions to the standards.

Final Action

AMS-FGIS is revising the lentil standards to revise the definition for the special grade “Green” in lentils. Accordingly, the following section of the United States Standards for Lentils under the AMA is amended as follows: Section 609: Special grades and requirements, is amended to include the following definition: Green Lentils. Clear seeded (green) lentils possessing a natural, uniformly green color.

AMS-FGIS is revising lentil inspection criteria in the Pea and Lentil Inspection Handbook by including the following instruction pertaining to special grade “Green”: The portion size of approximately 60 grams for small seeded lentils and 125 grams for large seeded lentils must contain less than 0.5 percent lentils with mottling and be free of any lentils of contrasting color, before the removal of defects, and must be equal to or better than depicted on the Interpretive Line Print after the removal of dockage.

Authority: 7 U.S.C. 1621-1627.

Erin Morris,
Associate Administrator, Agricultural Marketing Service.

[FR Doc. 2021-12564 Filed 6-14-21; 8:45 am]

BILLING CODE P